DEPARTMENT OF ENERGY

Federal Energy Regulatory Commission

Combined Notice of Filings #1

Take notice that the Commission received the following electric rate filings:

Docket Numbers: ER22-2264-001.

Applicants: Midcontinent Independent System Operator, Inc., Great River Energy, Northern States Power Company, a Minnesota corporation.

Description: Tariff Amendment: Midcontinent Independent System Operator, Inc. submits tariff filing per 35.17(b): 2022-08-25_SA 3813 NSP-GRE-Willmar Sub Orig TIA to be effective 8/31/2022.

Filed Date: 8/25/22.

Accession Number: 20220825-5104.

Comment Date: 5 p.m. ET 9/15/22.

Docket Numbers: ER22-2500-000.

Applicants: DLS—Jean Duluth Project Co, LLC.

Description: Supplement to July 27, 2022 of DLS—Jean Duluth Project Co, LLC submits tariff filing per 35.12: MBR Application to be effective 9/26/2022.

Filed Date: 8/23/22.

Accession Number: 20220823-5108.

Comment Date: 5 p.m. ET 9/2/22.

Docket Numbers: ER22-2501-000.

Applicants: DLS—Laskin Project Co, LLC.

Description: Supplement to July 27, 2022 DLS—Laskin Project Co, LLC submits tariff filing per 35.12: MBR Application to be effective 9/26/2022.

Filed Date: 8/23/22.

Accession Number: 20220823-5109.

Comment Date: 5 p.m. ET 9/2/22.

Docket Numbers: ER22-2502-000.

Applicants: DLS—Sylvan Project Co, LLC.

Description: Supplement to July 27, 2022 DLS—Sylvan Project Co, LLC submits tariff filing per 35.12: MBR Application to be effective 9/26/2022.

Filed Date: 8/23/22.

Accession Number: 20220823-5110.

Comment Date: 5 p.m. ET 9/2/22.

Docket Numbers: ER22-2715-000.

Applicants: Tri-State Generation and Transmission Association, Inc.

Description: § 205(d) Rate Filing: Initial Filing of Rate Schedule FERC No. 346 to be effective 10/25/2022.

Filed Date: 8/24/22.

Accession Number: 20220824-5108.

Comment Date: 5 p.m. ET 9/14/22.

Docket Numbers: ER22-2716-000.

Applicants: PJM Interconnection, L.L.C.

Description: § 205(d) Rate Filing: Amendment to SA No. 5822; Queue No. AE1-143 to be effective 10/7/2020.

Filed Date: 8/25/22.

Accession Number: 20220825-5001.

Comment Date: 5 p.m. ET 9/15/22.

Docket Numbers: ER22-2717-000.

Applicants: American Transmission Systems, Incorporated, PJM Interconnection, L.L.C.

Description: § 205(d) Rate Filing: American Transmission Systems, Incorporated submits tariff filing per 35.13(a)(2)(iii: ATSI submits Revised Interconnection Agreement (IA) SA No. 3994 to be effective 10/25/2022.

Filed Date: 8/25/22.

Accession Number: 20220825-5004.

Comment Date: 5 p.m. ET 9/15/22.

Docket Numbers: ER22-2718-000.

Applicants: PJM Interconnection, L.L.C.

Description: § 205(d) Rate Filing: Original ISA, Service Agreement No. 6585; Queue Nos. AE2-230/AF1-291A/AF2-075 to be effective 7/26/2022.

Filed Date: 8/25/22.

Accession Number: 20220825-5032.

Comment Date: 5 p.m. ET 9/15/22.

Docket Numbers: ER22-2719-000.

Applicants: PPL Electric Utilities Corporation, PJM Interconnection, L.L.C.

Description: § 205(d) Rate Filing: PPL Electric Utilities Corporation submits tariff filing per 35.13(a)(2)(iii: PPL EU Revisions to the Formula Rate, OATT Attachment H-8G and H-8H to be effective 10/25/2022.

Filed Date: 8/25/22.

Accession Number: 20220825-5083.

Comment Date: 5 p.m. ET 9/15/22.

Docket Numbers: ER22-2720-000.

Applicants: Union Electric Company, Midcontinent Independent System Operator, Inc.

Description: § 205(d) Rate Filing: Union Electric Company submits tariff filing per 35.13(a)(2)(iii: 2022-08-25_SA 3884 UEC-Hannibal (Finn) Joint Use Agreement to be effective 10/25/2022.

Filed Date: 8/25/22.

Accession Number: 20220825-5089.

Comment Date: 5 p.m. ET 9/15/22.

Docket Numbers: ER22-2721-000.

Applicants: Union Electric Company.

Description: § 205(d) Rate Filing: Rate Schedule 24, Rush Island SSR Payment to be effective 9/1/2022.

Filed Date: 8/25/22.

Accession Number: 20220825-5096.

Comment Date: 5 p.m. ET 9/15/22.

Docket Numbers: ER22-2722-000.

Applicants: PJM Interconnection, L.L.C.

Description: § 205(d) Rate Filing: Original ISA, Service Agreement No. 6588; Queue No. AE2-118 to be effective 7/26/2022.

Filed Date: 8/25/22.

Accession Number: 20220825-5098.

Comment Date: 5 p.m. ET 9/15/22.

Docket Numbers: ER22-2723-000.

Applicants: Tri-State Generation and Transmission Association, Inc.

Description: § 205(d) Rate Filing: Amendment to Rate Schedule FERC No. 6 to be effective 10/24/2022.

Filed Date: 8/25/22.

Accession Number: 20220825-5110.

Comment Date: 5 p.m. ET 9/15/22.

Docket Numbers: ER22-2724-000.

Applicants: Florida Power & Light Company.

Description: Tariff Amendment: FPL Notice of Cancellation of Second Revised Rate Schedule No. 104 to be effective 10/23/2022.

Filed Date: 8/25/22.

Accession Number: 20220825-5119.

Comment Date: 5 p.m. ET 9/15/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 25, 2022.
Debbie-Anne A. Reese,
Deputy Secretary.

[FR Doc. 2022-18795 Filed 8-30-22; 8:45 am]

BILLING CODE 6717-01-P